DEPARTMENT OF HOMELAND SECURITY

[Docket No. DHS-2013-0074]

Request for Comments and Answers to Specific Questions To Inform Development of the National Critical Infrastructure Security and Resilience (NCISR) Research and Development (R&D) Plan

AGENCY: Science and Technology Directorate, DHS.

ACTION: Notice and Request for Comments and Answers to Specific Questions.

SUMMARY: This Notice requests general comments and answers to specific questions to inform development of the National Critical Infrastructure Security and Resilience Research and Development Plan (NCISR R&D Plan) called for in Presidential Policy Directive (PPD) 21, Critical Infrastructure Security and Resilience. As part of a comprehensive national review process, the Department of Homeland Security (DHS) is soliciting public comments to support the DHS Science and Technology Directorate (S&T) in writing the NCISR R&D Plan. Critical infrastructure includes cyber and physical assets, systems, and networks comprising the 16 critical infrastructure sectors identified in PPD-21.

DATES: Written comments are encouraged and will be accepted until December 17, 2014.

ADDRESSES: You may submit comments, identified by docket number DHS-2013-0074, by any of the following methods:

• Federal eRulemaking Portal: http://www.regulations.gov. Follow the instructions for submitting comments.

• Email: R&DWG@hq.dhs.gov. Include the docket number DHS-2013-0074 in the subject line of the message.

• Mail: Kristin Wyckoff, DHS/S&T/RSD, 445 Murray Lane SW., Mail Stop 0208, Washington, DC 20528-0208.

Docket: For access to the docket to read background documents or comments received, go to http://www.regulations.gov. For more information on submitting written comments, see the SUPPLEMENTARY INFORMATION section below.

FOR FURTHER INFORMATION CONTACT: Kristin Wyckoff, DHS/S&T/RSD, 445 Murray Lane SW., Mail Stop 0208, Washington, DC 20528-0208.

SUPPLEMENTARY INFORMATION:

I. Public Participation

DHS invites interested persons to provide input and answers to specific questions to inform the identification of national R&D priorities for the NCISR R&D Plan. Input is welcome from stakeholder groups, private and public entities, and individuals on content to be included to best fulfill the intended purpose of the plan. Comments that will provide the most assistance to DHS will include a rationale for the stated answer or recommendation, along with supplemental data, information, or authority that supports the response.

II. Additional Instructions for Written Submissions

All written submissions must include the words “Department of Homeland Security” and the docket number for this action. All comments received (via any of the identified methods) will be posted without change to http://www.regulations.gov, including any personal information provided. Please submit your comments and material by only one means to avoid the posting of duplicate submissions.

If you submit comments by mail, your submission should be an unbound document and no larger than 8.5 by 11 inches to enable copying and electronic document management. Please limit submissions to a maximum of ten pages of text if possible. If you want DHS to acknowledge receipt of comments by mail, include with your comments a self-addressed, stamped postcard that includes the docket number for this action. DHS will date your postcard and return it to you via regular mail.

III. Background

On February 12, 2013, President Obama signed PPD-21,¹ Critical Infrastructure Security and Resilience, which builds on the extensive work done to date to protect and enhance the resilience of the Nation's critical infrastructure. This directive aims to clarify roles and responsibilities across the Federal Government and establish a more effective partnership with owners and operators and state, local, tribal, and territorial entities to enhance the security and resilience of critical infrastructure.

¹ PPD-21 can be found at: http://www.whitehouse.gov/the-press-office/2013/02/12/presidential-policy-directive-critical-infrastructure-security-and-resil.

President Obama also signed Executive Order (E.O.) 13636 ² on February 12, 2013, entitled Improving Critical Infrastructure Cybersecurity. By issuing the E.O. and PPD together, the Administration is taking an integrated approach to strengthening the security and resilience of critical infrastructure against all hazards, through an updated and overarching national framework that acknowledges the increased role of cybersecurity in securing physical assets.

² E.O. 13636 can be found at: http://www.gpo.gov/fdsys/pkg/FR-2013-02-19/pdf/2013-03915.pdf.

PPD-21 sets forth several actions that the Secretary of Homeland Security shall take to implement the directive. One of these actions is to develop a National Critical Infrastructure Security and Resilience R&D Plan. This is to be done within two years of the date of the directive, or by February 12, 2015, with the Secretary of Homeland Security working in coordination with the Office of Science and Technology Policy (OSTP), the Sector-Specific Agencies (SSAs), Department of Commerce (DOC), and other Federal departments and agencies. The plan is to take into account the evolving threat landscape, annual metrics, and other relevant information to identify priorities and guide R&D requirements and investments. The plan shall be issued every 4 years after its initial delivery with interim updates as needed. The plan will provide input to align Federal and Federally-funded R&D activities seeking to strengthen the security and resilience of the Nation's critical infrastructure.

The R&D Plan is being written through a collaborative process involving a full range of critical infrastructure partners and other stakeholders. This notice extends an invitation to the broader public to provide comments on the specific questions posed to inform the identification of national CISR R&D priorities. These comments and inputs will help to ensure the NCISR R&D Plan is relevant and useful, guiding R&D that will strengthen the security and resilience of the Nation's critical infrastructure.

IV. Specific Questions

Answers to the following specific questions are desired:

1. What do you view as the most significant cross-sector R&D themes? How might this view change looking forward to 2020 and beyond?

2. PPD-21 states, “Critical infrastructure must be secure and able to withstand and rapidly recover from all hazards.” Given this desired outcome, what factors should be considered in prioritizing national R&D activities?

3. What role can partnerships play in facilitating R&D within the themes identified in question #1? Is public sector engagement essential to advancing any of these themes?

Dated: November 10, 2014.
Jalal Mapar,
Director, Resilient Systems Division, Science and Technology Directorate.

[FR Doc. 2014-27124 Filed 11-14-14; 8:45 am]

BILLING CODE 9110-9F-P